ENVIRONMENTAL PROTECTION AGENCY

40 CFR Part 52

[EPA-R10-OAR-2013-0088; FRL-9841-6]

Approval and Promulgation of Implementation Plans; Washington: Thurston County Second 10-Year PM10 Limited Maintenance Plan

AGENCY: Environmental Protection Agency (EPA).

ACTION: Proposed rule.

SUMMARY: The EPA is proposing to approve a limited maintenance plan submitted by the State of Washington on July 1, 2013, for the Thurston County maintenance area (Thurston County) for particulate matter with an aerodynamic diameter less than or equal to a nominal 10 micrometers (PM10). The EPA is also proposing to approve both local and state regulatory updates related to this maintenance plan.

DATES: Comments must be received on or before September 4, 2013.

ADDRESSES: Submit your comments, identified by Docket ID No. EPA-R10-OAR-2013-0088, by any of the following methods:

A. www.regulations.gov: Follow the on-line instructions for submitting comments.

B. Mail: Jeff Hunt, EPA Region 10, Office of Air, Waste and Toxics (AWT-107), 1200 Sixth Avenue, Suite 900, Seattle WA, 98101

C. Email: R10-Public_Comments@epa.gov

D. Hand Delivery: EPA Region 10 Mailroom, 9th Floor, 1200 Sixth Avenue, Suite 900, Seattle WA, 98101. Attention: Jeff Hunt, Office of Air, Waste and Toxics, AWT-107. Such deliveries are only accepted during normal hours of operation, and special arrangements should be made for deliveries of boxed information

Instructions: Direct your comments to Docket ID No. EPA-R10-OAR-2013-0088. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the electronic docket are listed in the www.regulations.gov index. Although listed in the index, some information is not publicly available, i.e., CBI or other information the disclosure of which is restricted by statute. Certain other material, such as copyrighted material, is not placed on the Internet and will be publicly available only in hard copy form. Publicly available docket materials are available either electronically in www.regulations.gov or in hard copy during normal business hours at the Office of Air, Waste and Toxics, EPA Region 10, 1200 Sixth Avenue, Seattle WA, 98101.

FOR FURTHER INFORMATION CONTACT: Jeff Hunt at (206) 553-0256, hunt.jeff@epa.gov, or by using the above EPA, Region 10 address.

SUPPLEMENTARY INFORMATION: Throughout this document wherever “we”, “us” or “our” are used, it is intended to refer to the EPA.

Table of Contents

I. This Action

II. Background

III. Public and Stakeholder Involvement in Rulemaking Process

IV. The Limited Maintenance Plan Option for PM10 Areas

A. Requirements for the Limited Maintenance Plan Option

B. Conformity under the Limited Maintenance Plan Option

V. Review of the State's Submittal

A. Has the State demonstrated that Thurston County qualifies for the limited maintenance plan option?

B. Does the State have an approved attainment emissions inventory?

C. Does the limited maintenance plan include an assurance of continued operation of an appropriate EPA-Approved air quality monitoring network, in accordance with 40 CFR Part 58?

D. Does the plan meet the Clean Air Act requirements for contingency provisions?

E. Has the State met conformity requirements?

VI. Revisions to the Washington SIP

VII. Proposed Action

VIII. Statutory and Executive Order Reviews

I. This Action

The EPA is proposing to approve the limited maintenance plan submitted by the State of Washington (the State) on July 1, 2013, for Thurston County, including approval of a monitoring system modification for the area. The limited maintenance plan also includes Washington State Department of Ecology (Ecology) regulatory changes that strengthen the control measures contained in the State Implementation Plan (SIP) since our last approval on January 15, 1993 (58 FR 4578). In addition to the state regulatory changes, the EPA is proposing to approve corresponding local regulations adopted by the Olympic Region Clean Air Agency (ORCAA) because they have direct implementation authority in Thurston County. Lastly, the EPA is proposing to remove Chapter 173-433-170 Washington Administrative Code (WAC) Retail Sales Fee from the SIP because this provision was not a control measure relied on for attainment or a required element of the SIP. The EPA has determined that removal of this provision will not interfere with continued attainment and maintenance of the standard. Similarly, the EPA is proposing to remove Chapter 173-433-200 WAC Regulatory Actions and Penalties from the SIP incorporated by reference in 40 CFR 52.2470. The EPA reviews and approves state submissions to ensure they provide adequate enforcement authority. However, regulations describing agency enforcement authority are not incorporated into the SIP to avoid potential conflict with the EPA's independent authorities. Likewise, the EPA has reviewed and is proposing approval of ORCAA Rule 8.1.6 Penalties as having adequate enforcement authority, but will not incorporate this section by reference into the SIP codified in 40 CFR 52.2470.

II. Background

The EPA identified a portion of Thurston County as a “Group I” area of concern due to measured violations of the newly promulgated 24-hour PM10 National Ambient Air Quality Standard (NAAQS) on August 7, 1987 (52 FR 29383). Ecology and ORCAA worked with the communities of Lacey, Olympia, and Tumwater to develop a plan for attainment of the PM10 NAAQS. The plan was focused on wood smoke reduction and was submitted in November 1988. On November 15, 1990, the Clean Air Act (CAA) Amendments under section 107(d)(4)(B), designated the Thurston County Group I area as nonattainment for PM10 by operation of law. The EPA published a Federal Register notice announcing all areas designated nonattainment for PM10 on March 15, 1991 (56 FR 11101). In order to address the additional moderate area requirements imposed by the 1990 CAA Amendments, Ecology submitted a supplement to the attainment plan in November 1991. EPA took final action to approve the entire plan on July 27, 1993 (58 FR 40056).

The control measures contained in the Thurston County plan rapidly brought the area into attainment by 1991 and formed the foundation of the wood smoke reduction program still in use today. As PM10 levels in the area steadily declined, the EPA redesignated the Thurston County nonattainment area to a maintenance area on October 4, 2000 (65 FR 59128). In addition to approving Ecology's redesignation request for the area, the EPA also approved a maintenance plan to ensure continued compliance with the PM10 NAAQS for ten years. The purpose of the current limited maintenance plan is to fulfill the second 10-year planning requirement of Clean Air Act section 175A (b) to ensure compliance through 2020.

III. Public and Stakeholder Involvement in Rulemaking Process

Section 110(a)(2) of the Clean Air Act requires that each SIP revision offer a reasonable opportunity for notice and public hearing. This must occur prior to the revision being submitted by the State to the EPA. The State provided notice and an opportunity for public comment beginning April 22, 2013, with no comments received. Under the requirements of 40 CFR 51.102(a), the State also offered an opportunity for a public hearing; however no requests were received. This SIP revision was submitted by the Governor's designee and was received by the EPA on July 1, 2013. The EPA evaluated Ecology's submittal and determined that the State met the requirements for reasonable notice and public hearing under section 110(a)(2).

IV. The Limited Maintenance Plan Option for PM10 Areas

A. Requirements for the Limited Maintenance Plan Option

On August 9, 2001, the EPA issued guidance on streamlined maintenance plan provisions for certain moderate PM10 nonattainment areas (Memo from Lydia Wegman, Director, Air Quality Standards and Strategies Division, entitled “Limited Maintenance Plan Option for Moderate PM10 Nonattainment Areas” (limited maintenance plan option memo). The limited maintenance plan option memo contains a statistical demonstration that areas meeting certain air quality criteria will, with a high degree of probability, maintain the standard ten years into the future. Thus, the EPA provided the maintenance demonstration for areas meeting the criteria outlined in the memo. It follows that future year emission inventories for these areas, and some of the standard analyses to determine transportation conformity with the SIP, are no longer necessary.

To qualify for the limited maintenance plan option the State must demonstrate the area meets the criteria described below. First, the area should have attained the PM10 NAAQS. Second, the most recent five years of air quality data at all monitors in the area, called the 24-hour average design value, should be at or below 98 μg/m³. Third, the State should expect only limited growth in on-road motor vehicle PM10 emissions (including fugitive dust) and should have passed a motor vehicle regional emissions analysis test. Lastly, the memo identifies core provisions that must be included in all limited maintenance plans. These provisions include an attainment year emissions inventory, assurance of continued operation of an EPA-approved air quality monitoring network, and contingency provisions.

B. Conformity Under the Limited Maintenance Plan Option

The transportation conformity rule and the general conformity rule (40 CFR parts 51 and 93) apply to nonattainment areas and maintenance areas covered by an approved maintenance plan. Under either conformity rule, an acceptable method of demonstrating a Federal action conforms to the applicable SIP is to demonstrate that expected emissions from the planned action are consistent with the emissions budget for the area.

While qualification for the limited maintenance plan option does not exempt an area from the need to affirm conformity, conformity may be demonstrated without submitting an emissions budget. Under the limited maintenance plan option, emissions budgets are treated as essentially not constraining for the length of the maintenance period because it is unreasonable to expect that the qualifying areas would experience so much growth in that period that a violation of the PM10 NAAQS would result. For transportation conformity purposes, the EPA would conclude that emissions in these areas need not be capped for the maintenance period and therefore a regional emissions analysis would not be required. Similarly, Federal actions subject to the general conformity rule could be considered to satisfy the “budget test” specified in 40 CFR 93.158 (a)(5)(i)(A) for the same reasons that the budgets are essentially considered to be unlimited.

V. Review of the State's Submittal

A. Has the State demonstrated that Thurston County qualifies for the limited maintenance plan option?

As discussed above, the limited maintenance plan option memo outlines the requirements for an area to qualify. First, the area should be attaining the NAAQS. Thurston County has been attaining the NAAQS since 1991. EPA formally redesignated the area from nonattainment to attainment, making it a maintenance area effective December 4, 2000 (65 FR 59128).

Second, the average design value for the past five years of monitoring data must be at or below the critical design value of 98 μg/m³ for the 24-hour PM10 NAAQS. The critical design value is a margin of safety in which an area has a one in ten probability of exceeding the NAAQS. Using the most recently available Federal Reference Method (FRM) monitoring data for the years 2001-2005, the State's analysis demonstrated that Thurston County's average design value was 60 μg/m³, well below the 98 μg/m³ threshold. An FRM monitor is one that has been approved by the EPA under 40 CFR part 58 to measure compliance with the NAAQS. As discussed later in this proposal, Ecology and ORCAA also calculated average design values using more recent non-FRM nephelometer data for the period 2008 to 2012. This more recent monitoring data shows that PM10 levels continued to decline with an average design value of 45 μg/m³. The EPA reviewed the data provided by Ecology and ORCAA and finds that Thurston County meets the design value criteria outlined in the limited maintenance plan option memo.

Third, the area must meet the motor vehicle regional emissions analysis test described in attachment B of the limited maintenance plan option memo. Ecology submitted an analysis showing that growth in on-road mobile PM10 emissions sources was minimal and would not threaten the assumption of maintenance that underlies the limited maintenance plan policy. Using the EPA's methodology, Ecology calculated a regional emissions analysis margin of safety of 62 μg/m³, easily meeting the threshold of 98 μg/m³. The EPA reviewed the calculations in the State's limited maintenance plan submittal and concurs with this conclusion.

Lastly, the limited maintenance plan option memo requires all controls relied on to demonstrate attainment remain in place for the area to qualify. The controls on wood smoke reduction, Chapter 173-433 WAC Solid Fuel Burning Device Standards, were approved by the EPA into the SIP on January 15, 1993 (58 FR 4578). As discussed later in this proposal, Ecology made updates to Chapter 173-433 WAC strengthening the control measures since the EPA's last approval. The EPA reviewed these changes and confirmed that the underlying control measures remain in place, thus qualifying for the limited maintenance plan option.

As described above, Thurston County meets the qualification criteria set forth in the limited maintenance plan option memo. Under the limited maintenance plan option, the State will be expected to determine on an annual basis that the criteria are still being met. If the State determines that the limited maintenance plan criteria are not being met, it should take action to reduce PM10 concentrations enough to requalify. One possible approach the State could take is to implement contingency measures. Section V. I. provides a description of contingency provisions submitted as part of the limited maintenance plan submittal. To insure this requirement is met, Ecology commits to reporting to the EPA on continued qualification for the limited maintenance plan option in the annual monitoring network report.

B. Does the State have an approved attainment emissions inventory?

Pursuant to the limited maintenance plan option memo, the State's approved attainment plan should include an emissions inventory which can be used to demonstrate attainment of the NAAQS. The inventory should represent emissions during the same five-year period associated with air quality data used to determine whether the area meets the applicability requirements of the limited maintenance plan option.

Ecology's Thurston County limited maintenance plan submittal includes an emissions inventory based on Ecology's 2005 Triennial Emissions Inventory and the 2008 National Emissions Inventory. These base years represent the most recent emissions inventory data available and are consistent with the data used to determine applicability of the limited maintenance plan option (i.e., having no violations of the PM10 NAAQS). The emissions inventory focused on four significant source categories chosen based on a review of the original maintenance plan. These source categories, in order of relative impact, are wood burning, construction dust, road dust, and vehicle exhaust and tire wear. Since the Thurston County area is primarily residential and governmental, other source categories, including industrial sources, are insignificant. This data supports Ecology's conclusion that the control measures contained in the original attainment plan will continue to protect and maintain the PM10 NAAQS.

C. Does the limited maintenance plan include an assurance of continued operation of an appropriate EPA-Approved air quality monitoring network, in accordance with 40 CFR Part 58?

PM10 monitoring was established in the Thurston County area in 1985, with many changes to the monitoring technology and requirements since. Beginning in 1990, Ecology and ORCAA collocated a nephelometer with the existing PM10 FRM monitor. A nephelometer is an instrument that is widely used to calculate particulate matter concentrations based on light scatter measurements. While not an EPA-approved FRM monitoring method, Ecology and ORCAA found that the nephelometer and the PM10 FRM monitor were highly correlated. Because of this high level of correlation between the monitors, as part of the 2007 annual network monitoring report under 40 CFR part 58, Ecology requested replacing the FRM monitor with the nephelometer so that resources could be redirected to more pressing environmental issues such as ensuring that areas of concern in the State were in compliance with the recently revised fine particulate matter (PM2.5) NAAQS, which is defined as particulate matter with an aerodynamic diameter less than or equal to a nominal 2.5 micrometers. The EPA approved this request on November 16, 2007. A full description of the correlation data is included in the limited maintenance plan submittal. The EPA is proposing to approve this monitoring system modification, using nephelometer data to represent PM10 concentrations, under 40 CFR 58.14(c) for the second 10-year maintenance plan period because this modification is a reproducible approach to representing air quality in the Thurston County maintenance area, and the area continues to meet all applicable Appendix D requirements evaluated as part of the annual network approval process. As detailed in the limited maintenance plan, ORCAA will calculate the PM10 design value estimate annually from nephelometer data through 2020 to confirm the area continues to meet the PM10 NAAQS. ORCAA also makes a commitment to continue operation of a nephelometer in the Thurston County maintenance area through the 2020, the end of the maintenance period, to determine PM10 levels. In the unlikely event that after exceptional events are discounted, the second highest PM10 concentration in a calendar year based on nephelometer monitoring exceeds the LMP threshold of 98 μg/m³, Ecology, ORCAA, and EPA will discuss reestablishment of FRM monitoring as part of the annual network monitoring report process.

D. Does the plan meet the Clean Air Act requirements for contingency provisions?

Clean Air Act section 175A states that a maintenance plan must include contingency provisions, as necessary, to ensure prompt correction of any violation of the NAAQS which may occur after redesignation of the area to attainment. The EPA is proposing approval of ORCAA Rule 8.1.4(e) into the SIP. This regulation was passed in conjunction with the 1997 maintenance plan submission and prohibits the use of uncertified woodstoves in the Thurston County maintenance area for the sole purpose of meeting Clean Air Act requirements for contingency measures. The EPA reviewed ORCAA Rule 8.1.4(e) and determined that it meets the contingency measure requirements. The contingency measure will be triggered if a violation of the PM10 standard occurs at the Thurston County maintenance area monitor based on nephelometer and/or FRM monitoring. A violation of the PM10 standard will be determined by the procedures outlined in 40 CFR Part 50, Appendix K—Interpretation of the NAAQS for Particulate Matter.

E. Has the State met conformity requirements?

(1) Transportation Conformity

Under the limited maintenance plan option, emissions budgets are treated as essentially not constraining for the maintenance period because it is unreasonable to expect that qualifying areas would experience so much growth in that period that a NAAQS violation would result. While areas with maintenance plans approved under the limited maintenance plan option are not subject to the budget test, the areas remain subject to the other transportation conformity requirements of 40 CFR part 93, subpart A. Thus, the metropolitan planning organization (MPO) in the area or the State must document and ensure that:

(a) Transportation plans and projects provide for timely implementation of SIP transportation control measures (TCMs) in accordance with 40 CFR 93.113;

(b) Transportation plans and projects comply with the fiscal constraint element as set forth in 40 CFR 93.108;

(c) The MPO's interagency consultation procedures meet the applicable requirements of 40 CFR 93.105;

(d) Conformity of transportation plans is determined no less frequently than every three years, and conformity of plan amendments and transportation projects is demonstrated in accordance with the timing requirements specified in 40 CFR 93.104;

(e) The latest planning assumptions and emissions model are used as set forth in 40 CFR 93.110 and 40 CFR 93.111;

(f) Projects do not cause or contribute to any new localized carbon monoxide or particulate matter violations, in accordance with procedures specified in 40 CFR 93.123; and

(g) Project sponsors and/or operators provide written commitments as specified in 40 CFR 93.125.

Upon approval of the Thurston County limited maintenance plan, the area is exempt from performing a regional emissions analysis, but must meet project-level conformity analyses as well as the transportation conformity criteria mentioned above.

(2) General Conformity

For Federal actions required to address the specific requirements of the general conformity rule, one set of requirements applies particularly to ensuring that emissions from the action will not cause or contribute to new violations of the NAAQS, exacerbate current violations, or delay timely attainment. One way that this requirement can be met is to demonstrate that “the total of direct and indirect emissions from the action (or portion thereof) is determined and documented by the state agency primarily responsible for the applicable SIP to result in a level of emissions which, together with all other emissions in the nonattainment area, would not exceed the emissions budgets specified in the applicable SIP” (40 CFR 93.158(a)(5)(i)(A)).

The decision about whether to include specific allocations of allowable emissions increases to sources is one made by the state air quality agencies. These emissions budgets are different than those used in transportation conformity. Emissions budgets in transportation conformity are required to limit and restrain emissions. Emissions budgets in general conformity allow increases in emissions up to specified levels. The State has not chosen to include specific emissions allocations for Federal projects that would be subject to the provisions of general conformity.

VI. Revisions to the Washington SIP

As previously discussed, the EPA approved the wood smoke control measures contained in Chapter 173-433 WAC Solid Fuel Burning Device Standards on January 15, 1993, based on state regulatory provisions in effect as of October 18, 1990 (58 FR 4578). Ecology subsequently revised Chapter 173-433 WAC to strengthen the control measures with changes such as adding one of the nation's most stringent state woodstove certification standards and by moving towards a two-stage burn ban system to encourage adoption of the cleaner burning woodstoves. These changes to Chapter 173-433 WAC were effective on April 20, 1991 and March 6, 1993, but were not submitted for adoption into the SIP at that time. A redline strikeout copy of the regulatory changes along with the EPA's analysis is included in the docket for this action. Based on our review, the EPA is proposing to approve Ecology's 1991 and 1993 regulatory updates. In addition, Ecology requested that the EPA remove from the approved SIP Chapter 173-433-170 WAC Retail Sales Fee (state effective January 3, 1989) because this provision is not a control measure or a required element of the SIP. After reviewing the original Thurston County attainment plan, the EPA agrees that this provision was not a control measure relied upon for attainment and removal of Chapter 173-433-170 from the SIP will not interfere with continued attainment or maintenance of the NAAQS. Similarly, the EPA erred in including Chapter 173-433-200 WAC Regulatory Actions and Penalties in the SIP incorporated by reference in 40 CFR 52.2470. The EPA reviews and approves state submissions to ensure they provide adequate enforcement authority. However, regulations describing agency enforcement authority are not incorporated into the SIP to avoid potential conflict with the EPA's independent authorities. Therefore, we will remove Chapter 173-433-200 WAC from 40 CFR 52.2470.

While the provisions of Chapter 173-433 WAC Solid Fuel Burning Device Standards apply statewide per Chapter 173-433-020 WAC, Ecology requested that the EPA approve portions of ORCAA Rule 8.1 Wood Heating and ORCAA Rule 6.2 Outdoor Burning because ORCAA has direct implementation authority in Thurston County. The EPA reviewed these regulations to ensure they are as stringent as the existing control measures, with a full copy of the EPA's analysis included in the docket for this action. It is important to note that the ORCAA control measures, particularly burn ban trigger levels, focus on the more stringent and environmentally relevant 24-hour PM2.5 NAAQS. Ecology and ORCAA provided an analysis of PM10 and PM2.5 data collected by collocated FRM monitors at the Thurston County monitoring site. ORCAA found that the two pollutants were correlated and one could be determined from the other with a high degree of accuracy within the range of observations. The 24-hour PM2.5 NAAQS revised in 2006 has a protection level of 35 μg/m³ compared to the 1987 PM10 24-hour NAAQS of 150 μg/m³. Based on the monitoring data from Thurston County, ORCAA found that in the critical winter season the majority of PM10 is PM2.5. The statistical relationship between the two PM parameters indicates PM2.5 levels would need to exceed 139 μg/m³ before the PM10 NAAQS is exceeded. The EPA concurs that Thurston County would violate the 24-hour PM2.5 NAAQS well before it exceeded the PM10 NAAQS. By setting burn ban trigger levels to protect the 35 μg/m³ 24-hour PM2.5 NAAQS, ORCAA is simultaneously protecting the 150 μg/m³ 24-hour PM10 NAAQS. Finally, ORCAA Rule 8.1.4(e) provides a local clean air agency rule for implementing the contingency measure which would prohibit the use of uncertified wood stoves. The EPA reviewed the ORCAA regulations and determined that they strengthen the SIP and meet the CAA requirements. As discussed above with respect to enforcement authorities, the EPA reviewed and proposes approval of ORCAA Rule 8.1.6 Penalties but will not incorporate this provision by reference in 40 CFR 52.2470.

Table 1—Submitted Rules
Agency | Citation | Title | State or local effective date | Submitted
Ecology | 173-433-030 | Definitions | 04/20/91 | 07/01/13
Ecology | 173-433-100 | Emission performance standards | 03/06/93 | 07/01/13
Ecology | 173-433-110 | Opacity standards | 03/06/93 | 07/01/13
Ecology | 173-433-120 | Prohibited fuel types | 04/20/91 | 07/01/13
Ecology | 173-433-140 | Impaired air quality criteria | 04/20/91 | 07/01/13
Ecology | 173-433-150 | Curtailment | 04/20/91 | 07/01/13
ORCAA | 6.2.3 (only as it applies to the cities of Olympia, Lacey, and Tumwater) | No residential or land clearing burning | 02/04/12 | 07/01/13
ORCAA | 6.2.6 | Curtailment | 03/18/11 | 07/01/13
ORCAA | 6.2.7 | Recreational Burning | 03/18/11 | 07/01/13
ORCAA | 8.1.1 | Definitions | 05/22/10 | 07/01/13
ORCAA | 8.1.2 (b) and (c) | General emission standards | 05/22/10 | 07/01/13
ORCAA | 8.1.3 | Prohibited fuel types | 05/22/10 | 07/01/13
ORCAA | 8.1.4 | Curtailment | 05/22/10 | 07/01/13
ORCAA | 8.1.5 | Exceptions | 05/22/10 | 07/01/13
ORCAA | 8.1.6 | Penalties | 05/22/10 | 07/01/13
ORCAA | 8.1.7 | Sale and installation of uncertified woodstoves | 05/22/10 | 07/01/13
ORCAA | 8.1.8 | Disposal of uncertified woodstoves | 05/22/10 | 07/01/13

VII. Proposed Action

The EPA is proposing to approve the second 10-year limited maintenance plan for Thurston County submitted by Washington State. The state's submittal also included a request to approve state regulatory updates to the original control measures included in Chapter 173-433 WAC as well as corresponding local ORCAA regulations. The EPA is proposing to approve these regulatory changes as well as corrections to the EPA's January 1993 approval because these changes strengthen the SIP.

VIII. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to the requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. The SIP is not approved to apply in Indian country located in the State, except for non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area and the EPA is therefore approving this SIP on such lands.

List of Subjects in 40 CFR Part 52

Environmental protection, Air pollution control, Incorporation by reference, Particulate matter, and Reporting and recordkeeping requirements.

Authority: 42 U.S.C. 7401 et seq.

Dated: July 22, 2013.
Dennis J. McLerran,
Regional Administrator, Region 10.

[FR Doc. 2013-18843 Filed 8-2-13; 8:45 am]

BILLING CODE 6560-50-P